ENVIRONMENTAL PROTECTION AGENCY

[FRL-7951-1]

Guidance for 2006 Assessment, Listing and Reporting Requirements Pursuant to Sections 303(d), 305(b) and 314 of the Clean Water Act

AGENCY: Environmental Protection Agency (EPA).

ACTION: Notice of availability.

SUMMARY: This notice announces the availability of Guidance for 2006 Assessment, Listing, and Reporting Requirements Pursuant to Sections 303(d), 305(b) and 314 of the Clean Water Act. This biennial guidance is for states, territories, authorized tribes, and interstate commissions (hereinafter referred to as “jurisdictions”) that help states prepare and submit section 305(b) reports to EPA. Sections 303(d), 305(b), and 314 of the Clean Water Act (CWA) require states, territories, and authorized tribes (not interstate commissions) to provide biennial reports to EPA on the condition of waters within their boundaries. This guidance outlines the development of Integrated Reports (IR) that support EPA's strategy for achieving a broad-scale, national inventory of water quality conditions. The objective of this guidance is to provide jurisdictions a recommended reporting format and suggested content to be used in developing a single document that integrates the reporting requirements of sections 303(d), 305(b), and 314. Use of the IR format will allow jurisdictions to report the water quality standards attainment status of all waters, document the availability of data and information for each segment, identify certain trends in the water quality conditions, and provide information to managers in setting priorities for future actions to protect and restore the health of our nation's aquatic resources.

DATES: The guidance is effective August 12, 2005.

FOR FURTHER INFORMATION CONTACT: Persons requesting additional information or a complete copy of the document may contact Sarah Furtak by phone at (202) 566-1167, by e-mail at furtak.sarah@epa.gov, or by mail at the U.S. Environmental Protection Agency (4503T), 1200 Pennsylvania Avenue, NW., Washington, DC 20460. The Guidance for 2006 Assessment, Listing and Reporting Requirements Pursuant to Sections 303(d), 305(b) and 314 of the Clean Water Act is available on the EPA Web site at: http://www.epa.gov/owow/tmdl/2006IRG.

SUPPLEMENTARY INFORMATION: This document is a comprehensive compilation of relevant guidance EPA has issued to date regarding IR; however, there are few specific changes from the 2004 guidance. The 2006 IR Guidance provides:

• Increased emphasis on the use of the Assessment Database (ADB) or compatible electronic data format (the ADB is being modified to accommodate the recent format, content, and multi-category listing option that the guidance suggests),

• Greater clarity on the content and the format of those components of the IR that are recommended and required under CWA sections 303(d), 305(b), and 314,

• Greater clarity on issues associated with data solicitation, collection, consideration, and interpretation of water quality standards,

• Additional information on the option to report water quality status of individual segments in more than one category (e.g., to show that some designated uses of a water are being attained and some designated uses are not), and

• Additional clarity and flexibility on understanding and reporting alternatives to total maximum daily loads (TMDLs) for attaining water quality standards (e.g., utilization of reporting “Category 4b”).

Dated: August 3, 2005.
Benjamin H. Grumbles,
Assistant Administrator, Office of Water.

[FR Doc. 05-16040 Filed 8-11-05; 8:45 am]

BILLING CODE 6560-50-P